DEPARTMENT OF JUSTICE

Antitrust Division

Notice Pursuant to the National Cooperative Research and Production Act of 1993—Silicon Integration Initiative, Inc.

Notice is hereby given that, on April 8, 1999, pursuant to section 6(a) of the National Cooperative Research and Production Act of 1993, 15 U.S.C. 4301 et seq. (“the Act”), Silicon Integration Initiative, Inc. (“SI2”) has filed written notifications simultaneously with the Attorney General and the Federal Trade Commission disclosing changes in its membership status. The notifications were filed for the purpose of extending the Act's provisions limiting the recovery of antitrust plaintiffs to actual damages under specified circumstances. Specifically, Avant!, Sunnyvale, CA; Matsushita Electric Ind. Company, Osaka, Japan; Sun Microsystems, Inc., Mountain View, CA; Frequency Technology, Inc., San Jose, CA; Monterey Design Systems, Inc., Sunnyvale, CA; and RAPID, Dallas, TX have been added as parties to this venture. Also, OKI Electric Industry Co., Ltd., Tokyo, Japan; and Ambit Design Systems, Inc., Sunnyvale, CA have been dropped as parties to this venture.

No other changes have been made in either the membership or planned activity of the group research project. Membership in this group research project remains open, and SI2 intends to file additional written notifications disclosing all changes in membership.

On December 30, 1998, SI2 filed its original notification pursuant to section 6(a) of the Act. The Department of Justice published a notice in the Federal Register pursuant to section 6(b) of the Act on March 13, 1989 (54 FR 10456).

The last notification was filed with the Department on June 22, 1998. A notice was published in the Federal Register pursuant to section 6(b) of the Act on April 3, 2000 (65 FR 17536).

Constance K. Robinson,
Director of Operations, Antitrust Division.

[FR Doc. 01-5062 Filed 3-1-01; 8:45 am]

BILLING CODE 4410-11-M